DEPARTMENT OF TRANSPORTATION

Federal Aviation Administration

RTCA Special Committee 172; Future Air-Ground Communications in the VHF Aeronautical Data Band (118-137 MHz)

Pursuant to section 10(a)(2) of the Federal Advisory Committee Act (Public Law 92-463, 5 U.S.C., Appendix 2), notice is hereby given for Special Committee 172 meeting to be held July 26-27, 2000, starting at 9:00 a.m. The meeting will be held at RTCA, 1140 Connecticut Avenue, NW., Suite 1020, Washington, DC 20036.

The agenda will include: September 19: Plenary Session; (1) Introductory Remarks; (2) Review and Approve Agenda; (3) Discuss need for RTCA MOPS as the basis for a TSO for VDL Mode 2 Physical Layer MOPS (MOPS new working paper WG3/WP140); (Continue detailed discussion during WG-3); (4) review the status of DO-224A accomplishments and review outstanding action items; (5) Form Working Groups 2 and 3; September 20: (6) Continue in individual Working Groups; September 21: (7) Continue individual Working Group discussions as necessary; (8) Reconvene Plenary as required; (9) Other Business; (10) Date and Location of Next meeting; September 22: (12) Optional day for additional working group discussions as required; (13) Closing.

Attendance is open to the interested public but limited to space availability. With the approval of the chairman, members of the public may present oral statements at the meeting. Persons wishing to present statements or obtain information should contact the RTCA Secretariat, 1140 Connecticut Avenue, NW., Suite 1020, Washington, DC 20046; (202) 833-9339 (phone); (202) 833-9434 (fax); or http://www.rtca.org (web site). Members of the public may present a written statement to the committee at any time.

Issued in Washington, DC, on August 24, 2000.
Janice L. Peters,
Designated Official.

[FR Doc. 00-22359 Filed 8-30-00; 8:45 am]

BILLING CODE 4910-13-M